DEPARTMENT OF TRANSPORTATION

Office of the Secretary

Privacy Act of 1974: System of Records

AGENCY: Bureau of Transportation Statistics, DOT.

ACTION: Notice to establish a system of records.

SUMMARY: DOT intends to establish a system of records under the Privacy Act of 1974.

DATES: Effective Date: June 1, 2010. If no comments are received, the proposal will become effective on the above date. If comments are received, the comments will be considered and, where adopted, the documents will be republished with changes.

ADDRESSES: Send comments to: Habib Azarsina, Departmental Privacy Officer, S-80, United States Department of Transportation, Office of the Secretary of Transportation, 1200 New Jersey Ave., SE., Washington, DC 20590, or habib.azarsina@dot.gov.

FOR FURTHER INFORMATION CONTACT: Habib Azarsina, Departmental Privacy Officer, S-80, United States Department of Transportation, Office of the Secretary of Transportation, 1200 New Jersey Ave., SE., Washington, DC 20590, telephone 202-366-1965 or habib.azarsina@dot.gov

SUPPLEMENTARY INFORMATION: The Department of Transportation system of records notice subject to the Privacy Act of 1974 (5 U.S.C. 552a), as amended, has been published in the Federal Register and is available from the above mentioned address.

SYSTEM NUMBER: DOT/ALL 21

SYSTEM NAME:

Close Call Confidentiality Reporting System (C³RS).

SECURITY CLASSIFICATION:

Unclassified, sensitive.

SYSTEM LOCATION:

The system is housed on a stand-alone desktop in the C³RS secure room located in room E36-311 at the Bureau of Transportation Statistics, United States Department of Transportation, 1200 New Jersey Ave., SE., Washington, DC 20590.

CATEGORIES OF INDIVIDUALS COVERED BY THE SYSTEM OF RECORDS:

Railroad employees who report close calls to BTS, either by telephone or mail, as part of a five-year demonstration/research project are covered by this system of records. These individuals are employees of three rail carriers participating in the C³RS demonstration project. The rail carriers are: Union Pacific Railroad, Canadian Pacific Railroad, and New Jersey Transit.

The C³RS demonstration project is a research effort to improve safety by using information from close call events to prevent serious accidents in the rail industry. A close call or near miss is an unsafe event with the potential for a more serious incident resulting in greater injury to personnel or damage to equipment above FRA's reportable threshold level.

Employees can report about a near miss event that happened to their crew or an event they witnessed about another crew (third party reporting). In the case of third party reporting, the employee does not provide any PII information on those involved in the reported close call. Reporting employees are not allowed to make anonymous close call reports.

CATEGORIES OF RECORDS IN THE SYSTEM:

Records in the C³RS system contain information pertinent to an actual close call event submitted to BTS in a C³RS report. The following PII data elements are included in every C³RS report accepted into the system: The reporting employee's name, age, job classification, home address, and home and mobile telephone number(s) (if available).

AUTHORITY FOR MAINTENANCE OF THE SYSTEM:

Safe, Accountable, Flexible, Efficient Transportation Equity Act: A Legacy for Users (SAFETEA-LU), which was enacted August 10, 2005 as Public Law 109-59.

PURPOSES:

The C³RS collects name, home address, and telephone number(s) of railroad employees reporting close calls events to BTS. Qualified BTS/C³RS staff will use the contact information as follows:

• The employee's name and home telephone number will be used to generate and give the employee his/her unique confirmation number, upon receiving the employee's close call phone message;

• The employee's name and home telephone number will be used to notify the employee that BTS has received the employee's C³RS report and to schedule an interview time with the employee for further discussion of the close call incident;

• The employee's name and home telephone number will be used to initiate the close call interview;

• The employee's name and home address will be used to create and mail out a confirmation/rejection letter notifying the employee about the status of his/her close call report; and

• The employee's job classification will be used to understand the employee's role in the close call incident.

ROUTINE USES OF RECORDS MAINTAINED IN THE SYSTEM, INCLUDING CATEGORIES OF USERS AND THE PURPOSES OF SUCH USES:

BTS does not share PII information collected for the C³RS study with other entities. A primary goal of the C³RS is to protect the identity of any employee who reports a close call incident to BTS. Reports collected and maintained in the C³RS are protected from disclosure as provided in the BTS confidentiality statute (49 U.S.C. 111(k)) and the Confidential Information Protection and Statistical Efficiency Act (CIPSEA) of 2002.

DISCLOSURE TO CONSUMER REPORTING AGENCIES:

None.

POLICIES AND PRACTICES FOR STORING, RETRIEVING, ACCESSING, RETAINING AND DISPOSING OF RECORDS IN THE SYSTEM:

STORAGE:

The C³RS Demonstration Project stores all data in an electronic database in a stand-alone desktop computer attached to a non-network printer. The computer and printer are in a secure data collection room. Hard-copy documents (work papers) are stored in the secure room and shredded after project completion.

RETRIEVABILITY:

Records are retrieved from the C³RS database by confirmation number, which uniquely identifies individual reports and by employee identification numbers.

SAFEGUARDS:

All the information BTS obtains, including the PII data, is kept in a secure room in the Department of Transportation Headquarters building in Washington, DC. Only members of the C³RS team who have taken confidentiality training and signed a non-disclosure agreement have access to the secure room. The door of the secure room is kept closed during work hours and kept locked when the room is not in use. The stand-alone workstation that contains the database is password protected. All paper working documents are stored in the secure room and shredded immediately after case completion.

RETENTION AND DISPOSAL:

The C³RS project is a five-year research/feasibility study subject to availability of funds. BTS will retain the entire C³RS database for up to ten years after completion of the project (i.e., up to fifteen years total). The system is currently unscheduled; pending approval of a retention schedule by the National Archives and Records Administration (NARA), the records must be kept indefinitely. The retention periods that will be proposed to NARA are as follows: upon project completion, all PII data fields will be destroyed, and all non-PII data will be retired to the Federal Records Center (FRC). The non-PII data will be destroyed 10 years after completion of the study.

SYSTEM MANAGER(S) AND ADDRESS:

C³RS Data Collection Officer, Bureau of Transportation Statistics, Research & Innovative Technology Administration, Department of Transportation, 1200 New Jersey Ave., SE., RTS-31, Washington, DC 20590.

NOTIFICATION PROCEDURE:

Individuals seeking to determine whether their information is contained in this system should address written inquiries to: C³RS Data Collection Officer, Bureau of Transportation Statistics, Research & Innovative Technology Administration, Department of Transportation, 1200 New Jersey Ave., SE., RTS-31, Washington, DC 20590. Requests should include name, address and telephone number and a description of the request.

RECORD ACCESS PROCEDURES:

Same as “Notification Procedure.”

CONTESTING RECORD PROCEDURES:

Same as “Notification Procedure.”

RECORD SOURCE CATEGORIES:

Information is obtained directly from the individuals who report close call incidents to BTS.

EXEMPTIONS CLAIMED FOR THE SYSTEM:

None.

Dated: April 13, 2010.
Habib Azarsina,
Departmental Privacy Officer, 202-366-1965.

[FR Doc. 2010-8908 Filed 4-16-10; 8:45 am]

BILLING CODE 4910-62-P